OFFICE OF GOVERNMENT ETHICS

Updated OGE Senior Executive Service Performance Review Board

AGENCY: Office of Government Ethics (OGE).

ACTION: Notice.

SUMMARY: Notice is hereby given of the appointment of members to the OGE Senior Executive Service (SES) Performance Review Board.

DATES: Effective date: October 3, 2025.

FOR FURTHER INFORMATION CONTACT: Shelley K. Finlayson, Chief of Staff and Chief Counsel, U. S. Office of Government Ethics, 250 E Street SW, Suite 750, Washington, DC 20024; Telephone: 202-482-9314; TYY: 800-877-8339; FAX: 202-482-9237.

SUPPLEMENTARY INFORMATION: Federal law at 5 U.S.C. 4314(c) requires each agency to establish, in accordance with regulations prescribed by the Office of Personnel Management at 5 CFR part 430, subpart C and § 430.310 thereof in particular, one or more SES performance review boards. As a small executive branch agency, OGE has just one board. To ensure an adequate level of staffing and to avoid a constant series of recusals, the designated members of OGE's SES Performance Review Board are being drawn, as in the past, in large measure from the ranks of other executive branch agencies. The board shall review and evaluate the initial appraisal of each OGE senior executive's performance by his or her supervisor, along with any recommendations in each instance to the appointing authority relative to the performance of the senior executive. This notice updates the membership of OGE's SES Performance Review Board as it was most recently published at 89 FR 81530 (October 8, 2024).

The following officials have been appointed to the SES Performance Review Board of OGE: Katherine Easmunt, Chief Ethics Counsel, National Credit Union Administration; Stuart Bender, Director, USDA Office of Ethics, U.S. Department of Agriculture; and Natalie A. Bonanno, Associate General Counsel and Chief Ethics Compliance Officer, U.S. Postal Service.

Authority: 5 U.S.C. 4314(c)(4).

Approved: September 30, 2025.
Shelley K. Finlayson,
Chief of Staff and Chief Counsel, Office of Government Ethics.

[FR Doc. 2025-19442 Filed 10-2-25; 8:45 am]

BILLING CODE 6345-04-P